DEPARTMENT OF DEFENSE

GENERAL SERVICES ADMINISTRATION

NATIONAL AERONAUTICS AND SPACE ADMINISTRATION

48 CFR Chapter 1

[Docket No. FAR-2020-0051, Sequence No. 6]

Federal Acquisition Regulation; Federal Acquisition Circular 2021-01; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2021-01, which amends the Federal Acquisition Regulation (FAR). An asterisk (*) next to a rule indicates that a regulatory flexibility analysis has been prepared. Interested parties may obtain further information regarding this rule by referring to FAC 2021-01, which precedes this document. These documents are also available via the internet at https://www.regulations.gov.

DATES: October 2, 2020.

FOR FURTHER INFORMATION CONTACT: Mr. Michael O. Jackson, Procurement Analyst, at 202-208-4949 or Michaelo.jackson@gsa.gov for clarification of content. For information pertaining to status or publication schedules, contact the Regulatory Secretariat Division at 202-501-4755. Please cite FAC 2021-01, FAR case 2019-013.

Rule Listed in FAC 2021-01
Subject | FAR case
* Inflation Adjustment of Acquisition-Related Thresholds | 2019-013

ADDRESSES: The FAC, including the SECG, is available via the internet at https://www.regulations.gov.

SUPPLEMENTARY INFORMATION: A summary for the FAR rule follows. For the actual revisions and/or amendments made by this FAR case, refer to the specific subject set forth in the document following this summary. FAC 2021-01 amends the FAR as follows:

Inflation Adjustment of Acquisition-Related Thresholds (FAR Case 2019-013)

This final rule amends the Federal Acquisition Regulation (FAR) to further implement 41 U.S.C. 1908. Section 1908 requires an adjustment every 5 years (in years evenly divisible by 5) of statutory acquisition-related thresholds for inflation using the Consumer Price Index for all urban consumers, except for the Construction Wage Rate Requirements statute (Davis-Bacon Act), Service Contract Labor Standards statute, and trade agreements thresholds (see FAR 1.109). DoD, GSA, and NASA are also using the same methodology to change nonstatutory FAR acquisition-related thresholds for adjustment in 2020. This final rule will not have a significant economic impact on a substantial number of small entities.

William F. Clark,
Director, Office of Government-wide Acquisition Policy, Office of Acquisition Policy, Office of Government-wide Policy.

[FR Doc. 2020-21691 Filed 10-1-20; 8:45 am]

BILLING CODE 6820-EP-P